Title 3—

The President

Proclamation 8052 of September 15, 2006

National Farm Safety and Health Week, 2006

By the President of the United States of America

A Proclamation

Generations of farmers and ranchers have strengthened our Nation and enriched our communities by providing us with food, raw materials, and energy. National Farm Safety and Health Week is an opportunity to celebrate their contributions to America and raise awareness about potential hazards these workers and their families face. This year's theme, “Prepare to Prevent,” underscores the importance of injury prevention, preparedness, and safety on farms and ranches.

Farming and ranching are challenging occupations. Agricultural workers often work long hours and are exposed to many dangers associated with heavy machinery, tools, livestock, chemicals, and extreme weather conditions. By identifying hazards and taking preventive measures, farmers and ranchers can create a safer environment for themselves and their employees. Wearing protective gear can help prevent injuries, and farm machinery can be equipped with safety devices to decrease accidents. Agricultural workers can also take steps to make their workplace safer by training family members and staff in first aid and other emergency response techniques.

Our country depends on farmers and ranchers to help provide an abundant and safe food supply for our citizens and for the world, and we are grateful to them for their significant contributions to the economic prosperity of our great Nation. By raising awareness about injury prevention and safety in the workplace, farmers and ranchers can protect their employees, families, and themselves, and continue their good work to help America stay productive and prosperous.

NOW, THEREFORE, I, GEORGE W. BUSH, President of the United States of America, by virtue of the authority vested in me by the Constitution and the laws of the United States, do hereby proclaim September 17 through September 23, 2006, as National Farm Safety and Health Week. I call upon the agencies, organizations, and businesses that serve America's agricultural workers to continue to strengthen their commitment to promoting farm safety and health programs. I also urge all Americans to honor our agricultural heritage and to recognize our farmers and ranchers for their remarkable contributions to our Nation's prosperity and strength.

IN WITNESS WHEREOF, I have hereunto set my hand this fifteenth day of September, in the year of our Lord two thousand six, and of the Independence of the United States of America the two hundred and thirty-first.

[FR Doc. 06-7952

Filed 9-19-06; 8:45 am]

Billing code 3195-01-P